DEPARTMENT OF COMMERCE

National Oceanic and Atmospheric Administration

[I.D. 031203B]

Endangered and Threatened Species; Take of Anadromous Fish

AGENCY: National Marine Fisheries Service (NMFS), National Oceanic and Atmospheric Administration (NOAA), Commerce.

ACTION: Receipt of application for scientific research permits (1414 and 1416) and request for comment.

SUMMARY: Notice is hereby given that NMFS has received an application for scientific research from East Bay Municipal Utility District (EBMUD) in Lodi, CA (1414) and Fishery Foundation of California (Fishery Foundation) in Fair Oaks, CA (1416). These permits would affect the Central Valley steelhead Evolutionarily Significant Unit (ESU) as identified in the SUPPLEMENTARY INFORMATION section. This document serves to notify the public of the availability of the permit applications for review and comment before a final approval or disapproval is made by NMFS.

DATES: Written comments on the permit applications must be received no later than 5 p.m. Pacific Standard Time on May 2, 2003.

ADDRESSES: Written comments on the permit application should be sent to the appropriate office. Comments may also be sent via fax to the number indicated for the request. Comments will not be accepted if submitted via e-mail or the Internet. The applications and related documents are available for review, by appointment, for permits 1414 and 1416: Protected Resources Division, NMFS, 650 Capitol Mall, Suite 8-300, Sacramento, CA 95814 (ph: 916-930-3600, fax: 916-930-3629). Documents may also be reviewed by appointment in the Office of Protected Resources, F/PR3, NMFS, 1315 East-West Highway, Silver Spring, MD 20910 3226 (301 713 1401).

FOR FURTHER INFORMATION CONTACT: Rosalie del Rosario at phone number 916-930-3600, or e-mail: Rosalie.delRosario@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the federally-listed threatened ESU Central Valley steelhead (Oncorhynchus mykiss).

New Applications Received

EBMUD requests a five-year permit to conduct monitoring and research of anadromous (Central Valley steelhead) and resident fishes in the Lower Mokelumne River. The goals of the project include measuring the success of the Lower Mokelumne River Restoration Program and determining if the modifications of the Lower Mokelumne River Project are appropriate for conserving fish and wildlife resources in the Lower Mokelumne River.

Fishery Foundation requests a one-year permit to monitor Central Valley steelhead in the Lower Calaveras River to determine how many adults reach spawning grounds above and how many juveniles migrate downstream of Bellota Weir.

Dated: March 28, 2003.
Phil Williams,
Chief, Endangered Species Division, Office of Protected Resources, National Marine Fisheries Service.

[FR Doc. 03-7964 Filed 4-1-03; 8:45 am]

BILLING CODE 3510-22-S